OFFICE OF SCIENCE AND TECHNOLOGY POLICY

Request for Public Comment on Interagency Arctic Research Policy Committee (IARPC) Arctic Research Plan: FY2013-2017

May 22, 2012.

ACTION: Request for public comment.

SUMMARY: The Arctic Research and Policy Act of 1984 (ARPA), Public Law 98-373, established the Interagency Arctic Research Policy Committee (IARPC) to develop national Arctic research policy five-year Federal research plans to implement ARPA. Chaired by the Director of the National Science Foundation (NSF), IARPC is composed of representatives from ten agencies. More information on IARPC can be found at: http://www.nsf.gov/od/opp/arctic/iarpc/start.jsp.

The IARPC's Arctic Research Plan: FY2013-2017 (Five-Year Plan) describes research priorities for the next five years that are expected to benefit from interagency collaboration; not all research conducted by Federal agencies is included in the Five-Year Plan. The Five-Year Plan focuses on seven priority areas designed to enhance the goals and objectives of Federal agencies in Arctic research:

(1) Sea ice and marine ecosystem studies.

(2) Terrestrial ecosystem studies.

(3) Atmospheric studies effecting energy flux.

(4) Observing systems.

(5) Regional climate models.

(6) Adaptation tools for sustaining communities.

(7) Human health.

DATES: This request will be active through June 22, 2012, 11:59 EST.

ADDRESSES: The Five-Year Plan and additional information, including any updates to this Federal Register notice, will be available at http://www.nsf.gov/od/opp/arctic/iarpc/arc_res_plan_index.jsp. Comments may be submitted by any of the following methods:

Email: agraefe@arctic.gov. Include “IARPC FIVE-YEAR PLAN COMMENT” in the subject line of the message.

Mail: IARPC, c/o Arctic Sciences Division, National Science Foundation, Suite 755S, 4201 Wilson Blvd., Arlington, VA 22230. Attention: “Linda Izzard, IARPC FIVE-YEAR PLAN COMMENT.”

Fax: 703-292-9082 Attention: “Linda Izzard, IARPC FIVE-YEAR PLAN COMMENT.”

All submissions must be in English and must include your name, return address and email address, if applicable. Please clearly label submissions as “IARPC FIVE-YEAR PLAN COMMENT.”

Please do not include classified, personally identifying information (such as social security numbers), copyrighted material, or business confidential information. Please note that your submission may be subject to public release “as is” under applicable law.

FOR FURTHER INFORMATION CONTACT: Any questions about the content of this notice should be sent to A. Graefe, agraefe@arctic.gov. Include “IARPC FIVE-YEAR PLAN COMMENT” in the subject line of the message. Questions may also be sent by mail (please allow additional time for processing) to: IARPC, c/o Arctic Sciences Division, National Science Foundation, Suite 755S, 4201 Wilson Blvd., Arlington, VA 22230. Attention: “Lind Izzard, IARPC FIVE-YEAR PLAN COMMENT.”

SUPPLEMENTARY INFORMATION: For the purposes of research planning, we follow Section 112 of the ARPA in defining the Arctic as “all United States and foreign territory north of the Arctic Circle and all United States territory north and west of the boundary formed by the Porcupine, Yukon, and Kuskokwim Rivers [in Alaska]; all contiguous seas, including the Arctic Ocean and the Beaufort, Bering, and Chukchi Seas; and the Aleutian chain.”

Ted Wackler,
Deputy Chief of Staff and Assistant Director.

[FR Doc. 2012-12790 Filed 5-25-12; 8:45 am]

BILLING CODE P